SURFACE TRANSPORTATION BOARD

60-Day Notice of Intent To Seek Extension of Approval of Collection: Arbitration “Opt-In” Notices

AGENCY: Surface Transportation Board.

ACTION: Notice and request for comments.

SUMMARY: As required by the Paperwork Reduction Act of 1995 (PRA), the Surface Transportation Board (STB or Board) gives notice of its intent to seek approval from the Office of Management and Budget (OMB) for an extension of the collection of Arbitration “Opt-in” Notices, described below.

DATES: Comments on this information collection should be submitted by May 16, 2023.

ADDRESSES: Direct all comments to Chris Oehrle, PRA Officer, Surface Transportation Board, 395 E Street SW, Washington, DC 20423-0001, or to PRA@stb.gov. When submitting comments, please refer to “Paperwork Reduction Act Comments, Arbitration `Opt-In' Notices.” For further information regarding this collection, contact Mike Higgins at (866) 254-1792 (toll-free) or 202-245-0238, or by emailing rcpa@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Description of Collection

Title: Arbitration “Opt-in” Notices.

OMB Control Number: 2140-0020.

Form Number: None.

Type of Review: Extension without change.

Respondents: All regulated rail carriers.

Number of Respondents: One.

Estimated Time per Response: 0.5 hours.

Frequency: Annually.

Total Burden Hours (annually including all respondents): 0.5 hours.

Total “Non-Hour Burden” Cost: None identified. Filings are submitted electronically to the Board.

Needs and Uses: Under 49 CFR 1108.3, rail carriers subject to the Board's jurisdiction may agree to participate in the Board's arbitration program by filing a notice with the Board to “opt in.” Once a rail carrier is participating in the Board's arbitration program, it may discontinue its participation only by filing a notice to “opt out” with the Board, which would become effective 90 days after its filing.

The Board makes this submission because, under the PRA, a Federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), Federal agencies are required to provide, prior to an agency's submitting a collection to OMB for approval, a 60-day notice and comment period through publication in the Federal Register concerning each proposed collection of information, including each proposed extension of an existing collection of information.

Dated: March 14, 2023.
Aretha Laws-Byrum,
Clearance Clerk.

[FR Doc. 2023-05492 Filed 3-16-23; 8:45 am]

BILLING CODE 4915-01-P